DEPARTMENT OF HOMELAND SECURITY

[Docket No. DHS-2018-0053]

Homeland Security Science and Technology Advisory Committee

AGENCY: Science and Technology Directorate, DHS.

ACTION: Committee management; notice of open Federal Advisory Committee meeting.

SUMMARY: The Homeland Security Science and Technology Advisory Committee (HSSTAC) will meet via teleconference Friday, September 28, 2018. The meeting will be open to the public.

DATES: The HSSTAC meeting will take place Friday, September 28, 2018 from 10:30 a.m. to 12:00 p.m.

ADDRESSES: The meeting will be a virtual meeting conducted via webinar. Members of the public may participate via webinar but must register. Please see the “Registration” section below.

For information on services for individuals with disabilities or to request special assistance at the meeting, please contact the individual listed in the FOR FURTHER INFORMATION CONTACT section as soon as possible.

You may send comments, identified by docket number DHS-2018-0053 by one of the following methods:

• Federal eRulemaking Portal: http://www.regulations.gov. Follow the instructions for submitting comments.

• Email: hsstac@hq.dhs.gov. Include the docket number in the subject line of the message.

• Fax: 202-254-6176.

• Mail: Michel Kareis, HSSTAC Designated Federal Official, S&T IAO, STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2018-0053.

FOR FURTHER INFORMATION CONTACT: Michel Kareis, HSSTAC Designated Federal Official, Science and Technology Directorate (S&T) Interagency Office (IAO), STOP 0205, Department of Homeland Security, 245 Murray Lane, Washington, DC 20528-0205, 202-254-8778 (Office), 202-254-6176 (Fax), HSSTAC@hq.dhs.gov (Email).

SUPPLEMENTARY INFORMATION:

I. Background

Notice of this meeting is given under the Federal Advisory Committee Act (FACA), 5 U.S.C. Appendix (Pub. L. 92-463). The committee addresses areas of interest and importance to the Senior Official Performing the Duties of the Under Secretary for S&T, such as new developments in systems engineering, cyber-security, knowledge management and how best to leverage related technologies funded by other Federal agencies and by the private sector. It also advises the Senior Official Performing the Duties of the Under Secretary for S&T on policies, management processes, and organizational constructs as needed.

II. Registration

To register for the teleconference please send an email to: HSSTAC@hq.dhs.gov with the following subject line: RSVP to HSSTAC meeting. The email should include the name(s), title, organization/affiliation, email address, and telephone number of those interested in attending. You must RSVP by September 26, 2017.

III. Public Comment

At the end of the open session, there will be a thirty minute period for oral statements. The public is limited to 2 minutes per speaker. Please note that the comment period may end before the time indicated, following the last call for oral statements, and the meeting may close early if the committee has completed its business. To register as a speaker, contact the person listed in the FOR FURTHER INFORMATION CONTACT section.

To facilitate public participation, we invite public comment on the issues to be considered by the committee as listed in the “Agenda” below. Anyone is permitted to submit comments at any time, including orally during the meeting. However, those who would like their comments reviewed by committee members prior to the meeting must submit them in written form no later than September 24, 2018 per the instructions in the ADDRESSES section above.

IV. Agenda

This webinar is a follow on to the preceding September 13, 2018 in-person meeting, at which the Technology Scouting Partnerships Report and recommendations will be briefed. During the webinar, the committee will be voting on approval of the report, which was a collaborative effort of the Technology Scouting Partnerships subcommittee. The report can be found on the following website: https://www.dhs.gov/science-and-technology/hsstac. A copy may also be requested by emailing HSSTAC@HQ.DHS.GOV.

We will begin with an overview and discussion of the Technology Scouting Partnerships Report, followed by a thirty minute period for oral statements. The public is limited to 2 minutes per speaker. Please note that the comments period may end before the time indicated, following the last call for oral statements.

Meeting materials and the final meeting agenda will be posted on the following website by September 16, 2018: https://www.dhs.gov/science-and-technology/hsstac.

Dated: September 11, 2018.
Michel Kareis,
Designated Federal Official for the HSSTAC.

[FR Doc. 2018-20055 Filed 9-14-18; 8:45 am]

BILLING CODE 9110-9F-P